DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 16C-17, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on October 1, 2002, through December 31, 2002.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Office of Special Programs, 5600 Fishers Lane, Room 16C-17, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Lisa and Maximo Salinas on behalf of Eric Alfred Salinas, Richmond, Virginia, Court of Federal Claims Number 02-1286V

2. Kimberly and Jason Murray on behalf of Emily Renee Murray, Richmond, Virginia, Court of Federal Claims Number 02-1287V

3. Chauncey and Robert Ford on behalf of Logan Davis Ford, Richmond, Virginia, Court of Federal Claims Number 02-1288V

4. Margie and John Eyman on behalf of Ian Carter Eyman, Richmond, Virginia, Court of Federal Claims Number 02-1289V

5. Virginia and Daniel Dougherty on behalf of Austin Daniel Dougherty, Richmond, Virginia, Court of Federal Claims Number 02-1290V

6. Amy and Dennis Colannino on behalf of Adam Michael Colannino, Richmond, Virginia, Court of Federal Claims Number 02-1291V

7. Dee and Dino Ferra on behalf of Ryan Ferra, Hackensack, New Jersey, Court of Federal Claims Number 02-1292V

8. Wendy and Eric Dietsche on behalf of Katelyn Dietsche, Chattanooga, Tennessee, Court of Federal Claims Number 02-1293V

9. Amy and Ryan Reed on behalf of Arik Reed, Portland, Oregon, Court of Federal Claims Number 02-1295V

10. Amy and Ryan Reed on behalf of Kadin Reed, Portland, Oregon, Court of Federal Claims Number 02-1296V

11. Doris Brown on behalf of Nathayn Brown, Portland, Oregon, Court of Federal Claims Number 02-1297V

12. Judy Nichols on behalf of Jack Nichols, Portland, Oregon, Court of Federal Claims Number 02-1298V

13. R. Charles Ellis on behalf of Frederick W. Ellis, Portland, Oregon, Court of Federal Claims Number 02-1299V

14. Dana and Craig Knapp on behalf of Andrew Knapp, Portland, Oregon, Court of Federal Claims Number 02-1300V

15. Susan Fortino on behalf of Brandon Fortino, Portland, Oregon, Court of Federal Claims Number 02-1301V

16. Michelle and Bruce McPherran on behalf of Stuart McPherran, Portland, Oregon, Court of Federal Claims Number 02-1302V

17. Michelle and Bruce McPherran on behalf of Kaylen McPherran, Portland, Oregon, Court of Federal Claims Number 02-1303V

18. Kelly Church on behalf of Jordan Church, Portland, Oregon, Court of Federal Claims Number 02-1304V

19. Kristian Kabasares on behalf of Chad Kabasares, Portland, Oregon, Court of Federal Claims Number 02-1305V

20. Shelley and Lori Winn on behalf of Justin Winn, Portland, Oregon, Court of Federal Claims Number 02-1306V

21. Jodie Lynn Lovern on behalf of Alexander Lovern, Portland, Oregon, Court of Federal Claims Number 02-1307V

22. Lisa Baumann on behalf of Brett Baumann, Portland, Oregon, Court of Federal Claims Number 02-1308V

23. Shelley Segal on behalf of Joshua Segal, Terre Haute, Indiana, Court of Federal Claims Number 02-1309V

24. Jacqueline and Orlando Hislop on behalf of Catalina E. Hislop, Melbourne, Florida, Court of Federal Claims Number 02-1310V

25. Keri and Brian Elwell on behalf of Kaylie J. Elwell, Melbourne, Florida, Court of Federal Claims Number 02-1311V

26. Beth Pearce and Wayne Bosch on behalf of Victoria C. Bosch, Melbourne, Florida, Court of Federal Claims Number 02-1312V

27. Cheryl and Jerald Difiglio on behalf of Anthony J. Difiglio, Melbourne, Florida, Court of Federal Claims Number 02-1313V

28. Donna and Bruce Anderson on behalf of Ryan Anderson, Melbourne, Florida, Court of Federal Claims Number 02-1314V

29. Martha Lin and Ned Benfield on behalf of Elia C. Benfield, Melbourne, Florida, Court of Federal Claims Number 02-1315V

30. Carol Lazar, Los Angeles, California, Court of Federal Claims Number 02-1316V

31. Michael Kerr on behalf of Eric Kerr, Boston, Massachusetts, Court of Federal Claims Number 02-1318V

32. Donna Feld on behalf of Joshua Feld, Boston, Massachusetts, Court of Federal Claims Number 02-1319V

33. Donna Feld on behalf of Joseph Feld, Boston, Massachusetts, Court of Federal Claims Number 02-1320V

34. Carolyn Beyers on behalf of Cameron Beyers, Boston, Massachusetts, Court of Federal Claims Number 02-1321V

35. Stacy Alvarez on behalf of Ariana Alvarez, Boston, Massachusetts, Court of Federal Claims Number 02-1322V

36. Stacy Alvarez on behalf of Hunter Alvarez, Boston, Massachusetts, Court of Federal Claims Number 02-1323V

37. Mary Etebari on behalf of Brandon Etebari, Boston, Massachusetts, Court of Federal Claims Number 02-1324V

38. Alexandra Givens and J. Mortimer O'Sullivan on behalf of Reed Gilmore O'Sullivan, New York, New York, Court of Federal Claims Number 02-1325V

39. Melissa and Richard Webber on behalf of Lawrence B. Webber, Melbourne, Florida, Court of Federal Claims Number 02-1329V

40. Fatmeh and Ahmad Shihadeh on behalf of Sammy Shihadeh, Melbourne, Florida, Court of Federal Claims Number 02-1330V

41. Jacqueline and David Mancini on behalf of Adriana Mancini, Melbourne, Florida, Court of Federal Claims Number 02-1331V

42. Maureen and Kenneth Wilkerson on behalf of Carter Wilkerson, Melbourne, Florida, Court of Federal Claims Number 02-1332V

43. Maureen and Kenneth Wilkerson on behalf of Connor Wilkerson, Melbourne, Florida, Court of Federal Claims Number 02-1333V

44. William McAllister on behalf of David Edward McAllister, Richmond, Virginia, Court of Federal Claims Number 02-1334V

45. Georgia and Keith Meuller on behalf of Keith C. Meuller, Houston, Texas, Court of Federal Claims Number 02-1336V

46. Mary and Kent Brauninger on behalf of Max Brauninger, Houston, Texas, Court of Federal Claims Number 02-1337V

47. Jeanne and Edward Happel on behalf of Keith Happel, Vienna, Virginia, Court of Federal Claims Number 02-1338V

48. Lisa Ventimiglia on behalf of Natalie Ventimiglia, Vienna, Virginia, Court of Federal Claims Number 02-1339V

49. Lisa Ventimiglia on behalf of Dominic Ventimiglia, Vienna, Virginia, Court of Federal Claims Number 02-1340V

50. Wendy Beasley on behalf of Connor Beasley, Vienna, Virginia, Court of Federal Claims Number 02-1341V

51. Beverly Willis on behalf of Benjamin Willis, Vienna, Virginia, Court of Federal Claims Number 02-1342V

52. Howard Sobelman on behalf of Tyler Sobelman, Vienna, Virginia, Court of Federal Claims Number 02-1343V

53. Cynthia Johnson, Vienna, Virginia, Court of Federal Claims Number 02-1344V

54. Anita Greene, Raleigh, North Carolina, Court of Federal Claims Number 02-1348V

55. Jacquelyn and Christopher Brooks on behalf of Christopher Jonathyn Brooks, Los Angeles, California, Court of Federal Claims Number 02-1352V

56. Jeanette Early on behalf of Jameliah Chantel Early, Torrance, California, Court of Federal Claims Number 02-1353V

57. Kerry and Steven Cooper on behalf of Aidan Scott Cooper, Richmond, Virginia, Court of Federal Claims Number 02-1354V

58. Keisha and Jacob Grillo on behalf of Malachi Daniel Grillo, Rolla, Missouri, Court of Federal Claims Number 02-1355V

59. Cheryl and Mark Sprado on behalf of Jason Tyler Sprado, Orlando, Florida, Court of Federal Claims Number 02-1356V

60. Cynthia and Eddie Stanley on behalf of Armand Porche-Tyrell Stanley, Lancaster, Pennsylvania, Court of Federal Claims Number 02-1357V

61. Jacqueline and Bryant Yearby on behalf of Omari Bryant Yearby, North Babylon, New York, Court of Federal Claims Number 02-1358V

62. Cynthia and Ramido Ramirez on behalf of Destiny Alexis Ramirez, Casa Grande, Arizona, Court of Federal Claims Number 02-1359V

63. Gloria and Michael Ponosuk on behalf of Alyssa Jade Ponosuk, Hackensack, New Jersey, Court of Federal Claims Number 02-1360V

64. Courtney Shorter on behalf of Christopher Barnett, Miami, Florida, Court of Federal Claims Number 02-1361V

65. Lisa and Stephen Finn on behalf of Sean P. Finn, Melbourne, Florida, Court of Federal Claims Number 02-1362V

66. Toya and Barry Cunningham on behalf of Barry Cunningham, Jr., Charleston, South Carolina, Court of Federal Claims Number 02-1365V

67. Kristen and Timothy Fisher on behalf of Katherine Linsey Fisher, Dallas, Texas, Court of Federal Claims Number 02-1366V

68. Stacie and Jeffrey Brown on behalf of Jonathan Christian Brown, Oakland, California, Court of Federal Claims Number 02-1369V

69. Michelle and Kenneth Bowe on behalf of Brandon Bowe, Smithtown, New York, Court of Federal Claims Number 02-1370V

70. Elizabeth and Reginald Sharp on behalf of Christopher James Peter Sharp, Scottsdale, Arizona, Court of Federal Claims Number 02-1371V

71. Kara and Kelly Drake on behalf of Dalton Richard Drake, Elmore, Minnesota, Court of Federal Claims Number 02-1372V

72. Janetta and Ronald Miller on behalf of Anthony Dean Miller, Inglewood, California, Court of Federal Claims Number 02-1373V

73. Tammy and Ronnie Jones on behalf of Brandon Isaiah Jones, Dothan, Alabama, Court of Federal Claims Number 02-1374V

74. Kelly Barnhill on behalf of Fletcher Barnhill, Boston, Massachusetts, Court of Federal Claims Number 02-1375V

75. Joann Mrozinsky on behalf of Fletcher Barnhill and Ryan Dead, Boston, Massachusetts, Court of Federal Claims Number 02-1376V

76. Sonia and Chuck Young on behalf of Emelie S. Young, Melbourne, Florida, Court of Federal Claims Number 02-1377V

77. Rhonda and Robert Lofland on behalf of Barrett Lofland, Great Neck, New York, Court of Federal Claims Number 02-1378V

78. Kimberly K. Dennie on behalf of Calvin M. Dennie, Indianapolis, Indiana, Court of Federal Claims Number 02-1379V

79. LaKesha Mitchell on behalf of Taivis Byron Mitchell, Portland, Oregon, Court of Federal Claims Number 02-1380V

80. Londa and Jerry Corcoran on behalf of Jacob Corcoran, Portland, Oregon, Court of Federal Claims Number 02-1381V

81. Brian Peterson on behalf of Jack Peterson, Portland, Oregon, Court of Federal Claims Number 02-1382V

82. Domenick Venditti on behalf of Jake Venditti, Vienna, Virginia, Court of Federal Claims Number 02-1384V

83. Carol Nigro on behalf of Matthew Nigro, Vienna, Virginia, Court of Federal Claims Number 02-1385V

84. Celeste Demarsico on behalf of Isaak Demarsico, Vienna, Virginia, Court of Federal Claims Number 02-1386V

85. Susan Andrews on behalf of Joseph Andrews, Vienna, Virginia, Court of Federal Claims Number 02-1387V

86. Faith Ingersoll on behalf of Kyle Ingersoll, Vienna, Virginia, Court of Federal Claims Number 02-1388V

87. Kristi Pool on behalf of Abigail Pool, Vienna, Virginia, Court of Federal Claims Number 02-1389V

88. Sid Armer, Vienna, Virginia, Court of Federal Claims Number 02-1390V

89. Lisa Duff-Dugan, Fort Wayne, Indiana, Court of Federal Claims Number 02-1391V

90. Pam and Randy Coyne on behalf of Carson Coyne, Jackson, Tennessee, Court of Federal Claims Number 02-1392V

91. Jennifer and James Clawson on behalf of Sarah Danielle Clawson, Salisbury, North Carolina, Court of Federal Claims Number 02-1397V

92. Lori and Christian McIlwain on behalf of Connor Joseph McIlwain, Salisbury, North Carolina, Court of Federal Claims Number 02-1398V

93. Allison and Daniel Weeks on behalf of Hayden F. Weeks, Salisbury, North Carolina, Court of Federal Claims Number 02-1399V

94. Paula and Michael Rader on behalf of Nicolas Austin Rader, Salisbury, North Carolina, Court of Federal Claims Number 02-1400V

95. Deborah and Brian Flagg on behalf of Devin P. Flagg, Salisbury, North Carolina, Court of Federal Claims Number 02-1401V

96. Cynthia and Johnny Lambert on behalf of Johnny W. Lambert, Salisbury, North Carolina, Court of Federal Claims Number 02-1402V

97. Cynthia and Michael Stirk on behalf of Michael Hunter Stirk, Salisbury, North Carolina, Court of Federal Claims Number 02-1403V

98. Natasha Switkovitz on behalf of Marcellous Shemar Shuttles, Grand Rapids, Michigan, Court of Federal Claims Number 02-1404V

99. Lisa and Christopher Miller on behalf of Christopher Chase Miller, Philadelphia, Pennsylvania, Court of Federal Claims Number 02-1405V

100. Elizabeth and Thomas Steenbergen on behalf of Samuel Steenbergen, Great Neck, New York, Court of Federal Claims Number 02-1407V

101. Jose Brito and Lourdes Rivero-Brito on behalf of Ariel J. Brito, Melbourne, Florida, Court of Federal Claims Number 02-1408V

102. Anita and Paul Dost on behalf of Lauren Paige Dost, Salisbury, North Carolina, Court of Federal Claims Number 02-1409V

103. Fonda and D. Scott DuPre on behalf of Joseph Scott DuPre, Salisbury, North Carolina, Court of Federal Claims Number 02-1410V

104. Melissa and Carl Oliver on behalf of Kenny Wayne Oliver, Salisbury, North Carolina, Court of Federal Claims Number 02-1411V

105. Melissa and Carl Oliver on behalf of Amanda Diane Oliver, Salisbury, North Carolina, Court of Federal Claims Number 02-1412V

106. Annette and Dennis Alexander on behalf of Lauren D. Alexander, Salisbury, North Carolina, Court of Federal Claims Number 02-1413V

107. Elizabeth Steenbergen on behalf of Samuel T. Steenbergen, Miami, Florida, Court of Federal Claims Number 02-1414V

108. Cherie Gates on behalf of Riyo Gates, Miami, Florida, Court of Federal Claims Number 02-1415V

109. Rayshawn Lockhart on behalf of Noah Lockhart, Miami, Florida, Court of Federal Claims Number 02-1416V

110. Cheryl Lee Stanescu on behalf of Nicholad Stanescu, Miami, Florida, Court of Federal Claims Number 02-1417V

111. Cheryl Lee Stanescu on behalf of Gabrielle Stanescu, Miami, Florida, Court of Federal Claims Number 02-1418V

112. Dawn and Jerril Fant on behalf of Lynze Fant, Memphis, Tennessee, Court of Federal Claims Number 02-1419V

113. Harry Gibson on behalf of Christian Vilchis, Vienna, Virginia, Court of Federal Claims Number 02-1421V

114. Cindy Whitby on behalf of Ronnie Whitby, Vienna, Virginia, Court of Federal Claims Number 02-1422V

115. Tonya Taylor on behalf of Noah Taylor-Ortiz, Vienna, Virginia, Court of Federal Claims Number 02-1423V

116. Amanda Meyers on behalf of Abigail Meyers, Vienna, Virginia, Court of Federal Claims Number 02-1424V

117. Ruth Davis on behalf of Akiva Davis, Vienna, Virginia, Court of Federal Claims Number 02-1425V

118. James Ramey on behalf of Johnathan Ramey, Vienna, Virginia, Court of Federal Claims Number 02-1426V

119. Margaret Merenda on behalf of Anthony Merenda, Vienna, Virginia, Court of Federal Claims Number 02-1427V

120. Lisa Lewis on behalf of Ethan B. Lewis, Vienna, Virginia, Court of Federal Claims Number 02-1428V

121. Barbara Pontius on behalf of William D. Pontius, Vienna, Virginia, Court of Federal Claims Number 02-1429V

122. Barry Gore on behalf of Chayley Allison Gore, Vienna, Virginia, Court of Federal Claims Number 02-1430V

123. Nancy and Steven Gard on behalf of Maverick Gard, Vienna, Virginia, Court of Federal Claims Number 02-1431V

124. Linda Flower on behalf of Robert L. Elder, Vienna, Virginia, Court of Federal Claims Number 02-1432V

125. Sara and Matt Bytk on behalf of Michael Bytk, Vienna, Virginia, Court of Federal Claims Number 02-1433V

126. Cindy Alexander on behalf of Alton Alexander, Vienna, Virginia, Court of Federal Claims Number 02-1434V

127. Joseph Landy on behalf of Tyler Landy, Vienna, Virginia, Court of Federal Claims Number 02-1435V

128. Glenda Faye Mathes, Pella, Iowa, Court of Federal Claims Number 02-1436V

129. Dawn and Tony Turner on behalf of Austin Brady Turner, Dallas, Texas, Court of Federal Claims Number 02-1437V

130. Kathleen Caldwell on behalf of Scott Caldwell, Boston, Massachusetts, Court of Federal Claims Number 02-1438V

131. Marylou Plummer on behalf of Christopher Plummer, Boston, Massachusetts, Court of Federal Claims Number 02-1439V

132. Rebecca Carlson on behalf of Ethan Carlson, Boston, Massachusetts, Court of Federal Claims Number 02-1440V

133. Joshua Carter, Boston, Massachusetts, Court of Federal Claims Number 02-1441V

134. Amy Jones on behalf of Meghan Elizabeth Jones, Twin Falls, Idaho, Court of Federal Claims Number 02-1445V

135. Piedad Sanchez on behalf of Carlos Narjes, Orlando, Florida, Court of Federal Claims Number 02-1446V

136. Charlotte Cook on behalf of Kylah C. Cook, Alexandria, Virginia, Court of Federal Claims Number 02-1448V

137. Martha Bridges on behalf of Victoria Bridges, Alexandria, Virginia, Court of Federal Claims Number 02-1449V

138. Randy and Matthew Hutton on behalf of Billie K. Hutton, Alexandria, Virginia, Court of Federal Claims Number 02-1450V

139. Corkie and William Cline on behalf of Jared Cline, Alexandria, Virginia, Court of Federal Claims Number 02-1451V

140. Allison and David Bell on behalf of Aiden Bell, Salt Lake City, Utah, Court of Federal Claims Number 02-1452V

141. Jennifer and Gabriel Venuto on behalf of Tommy Venuto, Philadelphia, Pennsylvania, Court of Federal Claims Number 02-1453V

142. Linda and Robert Malecky on behalf of Margaret Malecky, Lansdale, Pennsylvania, Court of Federal Claims Number 02-1461V

143. Cynthia Sauer on behalf of Christopher Sauer, Vienna, Virginia, Court of Federal Claims Number 02-1464V

144. Willa Tyler on behalf of Jonathan Tyler, Vienna, Virginia, Court of Federal Claims Number 02-1465V

145. Terry and Jon Poling on behalf of Hannah Poling, Vienna, Virginia, Court of Federal Claims Number 02-1466V

146. Mark Friedman on behalf of Johnathan Friedman, Houston, Texas, Court of Federal Claims Number 02-1467V

147. Christina and Bruce Dowlen on behalf of Chase Dowlen, Melbourne, Florida, Court of Federal Claims Number 02-1468V

148. Barbara Russick on behalf of Alyssa Russick, Millville, New Jersey, Court of Federal Claims Number 02-1469V

149. Lisa and John Sportelli-Wright on behalf of Ean Sportelli-Wright, Dallas, Texas, Court of Federal Claims Number 02-1470V

150. Dorothy and Michael Marue on behalf of Paul Marue, Trenton, New Jersey, Court of Federal Claims Number 02-1471V

151. Donna and Earl Lewis on behalf of Logan Lewis, Baton Rouge, Louisiana, Court of Federal Claims Number 02-1473V

152. Cortney Elizabeth Goldberg on behalf of Jacob Nash Goldberg, Royal Oak, Michigan, Court of Federal Claims Number 02-1475V

153. Gene Velchek, Decatur, Illinois, Court of Federal Claims Number 02-1479V

154. Laurie Christiansen on behalf of Raymond Christiansen, Boston, Massachusetts, Court of Federal Claims Number 02-1480V

155. Laurie Christiansen on behalf of Matthew Christiansen, Boston, Massachusetts, Court of Federal Claims Number 02-1481V

156. Darlene Waters-D'India on behalf of Michael David D'India, Boston, Massachusetts, Court of Federal Claims Number 02-1482V

157. Marjorie Shulsinger on behalf of Rachel Shulsinger, Boston, Massachusetts, Court of Federal Claims Number 02-1483V

158. Jennifer Dick on behalf of Jared Dick, Boston, Massachusetts, Court of Federal Claims Number 02-1484V

159. Carrie Hammers on behalf of Ian Hammers, Boston, Massachusetts, Court of Federal Claims Number 02-1485V

160. Martha Anderson on behalf of Woodrow Pugh, Boston, Massachusetts, Court of Federal Claims Number 02-1486V

161. Jantha and Samuel Houston on behalf of Donald Gray Houston, Houston, Texas, Court of Federal Claims Number 02-1487V

162. Charlotte Kemper on behalf of Sullivan Kemper, Vienna, Virginia, Court of Federal Claims Number 02-1489V

163. Carolyn Reed, Vienna, Virginia, Court of Federal Claims Number 02-1490V

164. Michelle Howie on behalf of Kaleigh Briele Grimes, Vienna, Virginia, Court of Federal Claims Number 02-1491V

165. Sherry and Scott Pearson on behalf of Tristen Lloyd Pearson, Nacogdoches, Texas, Court of Federal Claims Number 02-1492V

166. Christine and Lee Kiester on behalf of Connor William Kiester, Roseburg, Oregon, Court of Federal Claims Number 02-1493V

167. Tracie McNeil on behalf of Jontrell Rayveen Pritchett, Flint, Michigan, Court of Federal Claims Number 02-1494V

168. Patricia and Don Adams on behalf of Christian Adrian Adams, Chula Vista, California, Court of Federal Claims Number 02-1495V

169. Lydia Lynk on behalf of Nailah Kyarah Lynk, Chicago, Illinois, Court of Federal Claims Number 02-1496V

170. Theresa Goosby and Michael Brickner on behalf of Mikel Eric Brickner, Coraopoloa, Pennsylvania, Court of Federal Claims Number 02-1497V

171. Gerri and Edward Graboski on behalf of Andrew Edward Graboski, Staten Island, New York, Court of Federal Claims Number 02-1501V

172. Carol and Greg Fuller on behalf of Blake Garrison Fuller, Cincinnati, Ohio, Court of Federal Claims Number 02-1502V

173. Patricia Noble on behalf of Zachary Noble, Boston, Massachusetts, Court of Federal Claims Number 02-1503V

174. La'Kesha Ray on behalf of Derrick Ray, Jr., Boston, Massachusetts, Court of Federal Claims Number 02-1504V

175. Alina White on behalf of Marquise White, Boston, Massachusetts, Court of Federal Claims Number 02-1505V

176. Cecilia Thompson on behalf of Sarah Thompson, Boston, Massachusetts, Court of Federal Claims Number 02-1506V

177. Alberto Espinosa on behalf of Christian Espinosa, Boston, Massachusetts, Court of Federal Claims Number 02-1507V

178. Kathleen Jurkowich on behalf of Austin Jurkowich, Boston, Massachusetts, Court of Federal Claims Number 02-1508V

179. Scott Carlson on behalf of Matthew Carlson, Boston, Massachusetts, Court of Federal Claims Number 02-1509V

180. Kimberly Haltom on behalf of Justin Haltom, Boston, Massachusetts, Court of Federal Claims Number 02-1510V

181. Monica Schons on behalf of Nicholas Schons, Boston, Massachusetts, Court of Federal Claims Number 02-1511V

182. Rasheeda McAllister on behalf of Braxton Alford, Charleston, South Carolina, Court of Federal Claims Number 02-1512V

183. Kelly Matthew and Nick Joseph on behalf of Bridgette Joseph, Melbourne, Florida, Court of Federal Claims Number 02-1513V

184. Clay Heighton and Debra Caudy on behalf of Jon Brigham Heighton, Dallas, Texas, Court of Federal Claims Number 02-1524V

185. Joanne Blair and Malae Pete on behalf of Malaetasi Sue-Sue Blair-Pete, San Pedro, California, Court of Federal Claims Number 02-1525V

186. Karen and David Smith on behalf of David Edward Smith, New Orleans, Louisiana, Court of Federal Claims Number 02-1526V

187. Marie and Ed Winegardner on behalf of Damon Edward Fuzz Winegardner, Logansport, Indiana, Court of Federal Claims Number 02-1527V

188. Frances and Ricky Peralta on behalf of Ricky Quitasol Peralta, San Diego, Carolina, Court of Federal Claims Number 02-1528V

189. Melissa Williams on behalf of Andrew Dante Williams, Selma, Alabama, Court of Federal Claims Number 02-1532V

190. Lea Bass on behalf of Augus Anthony Bass, Torrance, California, Court of Federal Claims Number 02-1533V

191. Janoah White on behalf of Marshawn Antonio Burrell, Chicago, Illinois, Court of Federal Claims Number 02-1534V

192. Linda Kaye Schiding on behalf of Anthony Joseph Thomas, Baltimore, Maryland, Court of Federal Claims Number 02-1535V

193. Eletha Eades on behalf of Nathan Kenneth Eades, Tonopah, Nevada, Court of Federal Claims Number 02-1536V

194. Barbara Ramirez on behalf of Katherine Ramirez, Yarmouth, Maine, Court of Federal Claims Number 02-1538V

195. Barbara Ramirez on behalf of Aaron Ramirez, Yarmouth, Maine, Court of Federal Claims Number 02-1539V

196. Debra and Richard Levinton on behalf of Molly Hannah Levinton, Sugar Land, Texas, Court of Federal Claims Number 02-1540V

197. Peggy and Timothy Casey on behalf of Jennifer Elise Casey, Hinsdale, Illinois, Court of Federal Claims Number 02-1541V

198. Betty and Leon Cooper on behalf of Tianna Latrice Cooper, Natchez, Mississippi, Court of Federal Claims Number 02-1542V

199. Sonya and Fred Theilen on behalf of Anastasia Elizabeth Theilen, Springfield, Illinois, Court of Federal Claims Number 02-1543V

200. Rhonda and Lee Weber on behalf of Ryan Lee Weber, Frankfort, Kentucky, Court of Federal Claims Number 02-1544V

201. Mary and Jeff Dillard on behalf of Claudia Amanda Dillard, Birmingham, Alabama, Court of Federal Claims Number 02-1545V

202. Christine and Stephen Spanola on behalf of Joseph Spanola, Great Neck, New York, Court of Federal Claims Number 02-1547V

203. Deborah and Stephen Beroske on behalf of Kyle Beroske, Great Neck, New York, Court of Federal Claims Number 02-1548V

204. Meredith and Jeffrey Hess on behalf of Joshua Hess, Great Neck, New York, Court of Federal Claims Number 02-1549V

205. Elizabeth and Steven Parker on behalf of Kiera Parker, Melbourne, Florida, Court of Federal Claims Number 02-1553V

206. Jennifer Dixon on behalf of Parker Landon Dixon, Houston, Texas, Court of Federal Claims Number 02-1555V

207. Melinda and Geoffrey Alleyne on behalf of Joshua Alleyne, Houston, Texas, Court of Federal Claims Number 02-1556V

208. Joan M. Kelley on behalf of Ian Michael Pitcherello, Wilmington, Delaware, Court of Federal Claims Number 02-1557V

209. Deborah and Robert Edwards on behalf of Tyler Garrett Edwards, Mount Holly, New Jersey, Court of Federal Claims Number 02-1558V

210. Kerry and Adrian Kost on behalf of Brendan Patrick Kost, Palos Heights, Illinois, Court of Federal Claims Number 02-1559V

211. Robert Wooten on behalf of Nicholas Dale Wooten, Dallas, Texas, Court of Federal Claims Number 02-1560V

212. Delorise Lee Coleman on behalf of Reshawnda Denise Jenkins, Houston, Texas, Court of Federal Claims Number 02-1561V

213. Linda Lee Lewis on behalf of Cortney Danielle Quinn, Houston, Texas, Court of Federal Claims Number 02-1562V

214. Dekita R. Mays on behalf of T'Neesha Jsh'Leotishia Edwards, Houston, Texas, Court of Federal Claims Number 02-1563V

215. Dekita R. Mays on behalf of Kia Tyroneshia Mays, Houston, Texas, Court of Federal Claims Number 02-1564V

216. Viola P. McDonald on behalf of David McDonald, Jr., Houston, Texas, Court of Federal Claims Number 02-1565V

217. Viola P. McDonald on behalf of Randy McDonald, Houston, Texas, Court of Federal Claims Number 02-1566V

218. Polly Mealey on behalf of Renee Jones, Houston, Texas, Court of Federal Claims Number 02-1567V

219. Helen Quinn on behalf of Jahaquial Antonio Lambert, Houston, Texas, Court of Federal Claims Number 02-1568V

220. Marilyn Wilson on behalf of Samuel Israel Wilson, Houston, Texas, Court of Federal Claims Number 02-1569V

221. Lucy Woods on behalf of Joshua Woods, Houston, Texas, Court of Federal Claims Number 02-1570V

222. Jeanine Dillon on behalf of Janaca Dillon, Houston, Texas, Court of Federal Claims Number 02-1571V

223. Jeanine Dillon on behalf of Tra'Vione Bates, Houston, Texas, Court of Federal Claims Number 02-1572V

224. May Good on behalf of Devin Devinski Reshad Good, Houston, Texas, Court of Federal Claims Number 02-1573V

225. May Good on behalf of Kentadrin Shunntez Good, Houston, Texas, Court of Federal Claims Number 02-1574V

226. LaQuanda Lewis on behalf of MyKayla Ware, Houston, Texas, Court of Federal Claims Number 02-1575V

227. LaQuanda Lewis on behalf of Candi Me'Sha Ware, Houston, Texas, Court of Federal Claims Number 02-1576V

228. Phyllis Roby on behalf of Crisetta Renee Roby, Houston, Texas, Court of Federal Claims Number 02-1577V

229. Jessica Shannon on behalf of Tory Taquorin Shannon, Houston, Texas, Court of Federal Claims Number 02-1578V

230. Tyese Washington on behalf of Brandilyn Z. Page, Houston, Texas, Court of Federal Claims Number 02-1579V

231. Shelia Watson on behalf of Jamal Lee Watson, Houston, Texas, Court of Federal Claims Number 02-1580V

232. Linda Kay White on behalf of Darius Deon Duck, Houston, Texas, Court of Federal Claims Number 02-1581V

233. Annie Sanders on behalf of Alyssa Colette Mixon, Houston, Texas, Court of Federal Claims Number 02-1582V

234. Annie Sanders on behalf of Maurice Eugene Mixon, Houston, Texas, Court of Federal Claims Number 02-1583V

235. Annie Sanders on behalf of Mack Neese Sanders, III, Houston, Texas, Court of Federal Claims Number 02-1584V

236. Patricia Metcalf on behalf of Adrian Ryan Metcalf, Houston, Texas, Court of Federal Claims Number 02-1585V

237. Patricia Metcalf on behalf of Ruben Avery Metcalf, Houston, Texas, Court of Federal Claims Number 02-1586V

238. Antreinika Tenner on behalf of Aysia DeMonaye Tenner, Houston, Texas, Court of Federal Claims Number 02-1587V

239. Tangela Strong on behalf of Tiffany Andrea Lane, Houston, Texas, Court of Federal Claims Number 02-1588V

240. Detrossa Rule on behalf of Darrion DeVante” Rule, Houston, Texas, Court of Federal Claims Number 02-1589V

241. Sarah Patterson on behalf of Akili Patterson, Houston, Texas, Court of Federal Claims Number 02-1590V

242. Robin Chambliss on behalf of Calvin Chambliss, Jr., Houston, Texas, Court of Federal Claims Number 02-1591V

243. Jody and Alma Buck on behalf of Malcolm O'Tan Buck, Houston, Texas, Court of Federal Claims Number 02-1592V

244. Patricia Brown on behalf of Jerome D'Wayne Brown, Houston, Texas, Court of Federal Claims Number 02-1593V

245. Patricia Brown on behalf of Desmond Allen Brown, Houston, Texas, Court of Federal Claims Number 02-1594V

246. Edna Brown on behalf of Charles De'Angelo Brown, Houston, Texas, Court of Federal Claims Number 02-1595V

247. Felicia Banks on behalf of Frederick Felisco Van Norman, Houston, Texas, Court of Federal Claims Number 02-1596V

248. Lavonne M. Belton on behalf of Jimmie Lee Belton, Houston, Texas, Court of Federal Claims Number 02-1597V

249. Lavonne M. Belton on behalf of Rober Lee Belton, Jr., Houston, Texas, Court of Federal Claims Number 02-1598V

250. Erica Jones on behalf of Solomon John Ben Jones, Houston, Texas, Court of Federal Claims Number 02-1599V

251. Cora Haynes on behalf of Jadale Lamon Haynes, Houston, Texas, Court of Federal Claims Number 02-1600V

252. Cora Haynes on behalf of Jamel Antwan Haynes, Houston, Texas, Court of Federal Claims Number 02-1601V

253. Chandra Haggan on behalf of Shandarius Leron Haggan, Houston, Texas, Court of Federal Claims Number 02-1602V

254. Lakeisha Felder on behalf of Alphonse Nathan Rogers, Jr., Houston, Texas, Court of Federal Claims Number 02-1603V

255. Jennifer Edwards on behalf of Justin Johnvann Terry, Houston, Texas, Court of Federal Claims Number 02-1604V

256. Marilyn Davis on behalf of Javonte' Da Juan Nelson, Houston, Texas, Court of Federal Claims Number 02-1605V

257. Carolyn Davillier on behalf of Melvin Davillier, Houston, Texas, Court of Federal Claims Number 02-1606V

258. Galaundra Myles on behalf of Jeremy Dawayne Miles, Houston, Texas, Court of Federal Claims Number 02-1607V

259. Heather Berg on behalf of Ysanna P. Jones, Alexandria, Virginia, Court of Federal Claims Number 02-1608V

260. Marcella and Devonna Herbert on behalf of Van Herbert, Alexandria, Virginia, Court of Federal Claims Number 02-1609V

261. Kimberly and Richard Cullen on behalf of Liam H. Cullen, Melbourne, Florida, Court of Federal Claims Number 02-1610V

262. Kimberly and Richard Cullen on behalf of Sean R. Cullen, Melbourne, Florida, Court of Federal Claims Number 02-1611V

263. Liquan Wang and Jianqiang Mao on behalf of Jeff Mao, Great Neck, New York, Court of Federal Claims Number 02-1612V

264. Kelly and Timothy Lucas on behalf of Abigale Lucas, Great Neck, New York, Court of Federal Claims Number 02-1613V

265. Teresa and David Barschi on behalf of Andre Barschi, Great Neck, New York, Court of Federal Claims Number 02-1614V

266. Randy Lockhart on behalf of Noah Lockhart, Great Neck, New York, Court of Federal Claims Number 02-1615V

267. Terry Donner and Michael Small on behalf of Ian Michael Small, Great Neck, New York, Court of Federal Claims Number 02-1616V

268. Kim Kassick on behalf of Kody Kassick, Great Neck, New York, Court of Federal Claims Number 02-1617V

269. Mary Landis on behalf of Andrew Valenta, Encinitas, California, Court of Federal Claims Number 02-1618V

270. Bradley Hall, Mesa, Arizona, Court of Federal Claims Number 02-1626V

271. Christopher Sabella, Voorhees, New Jersey, Court of Federal Claims Number 02-1627V

272. Cindy and Brad Canfield on behalf of Theodore Canfield, Nashua, New Hampshire, Court of Federal Claims Number 02-1629V

273. Darsky McMorris on behalf of Kayla Alice McMorris, Houston, Texas, Court of Federal Claims Number 02-1633V

274. Pauline Cooley on behalf of Jermaine Jerome Cooley, Jr., Houston, Texas, Court of Federal Claims Number 02-1634V

275. Helen Hicks on behalf of Alexandria D. Hicks, Houston, Texas, Court of Federal Claims Number 02-1635V

276. Letticia Lockhart on behalf of Nathaniel Lockhart, Houston, Texas, Court of Federal Claims Number 02-1636V

277. Teresa Minton on behalf of Earvin Jerome Minton, Jr., Houston, Texas, Court of Federal Claims Number 02-1637V

278. Kaura Perkins on behalf of La'Jerrious Perkins, Houston, Texas, Court of Federal Claims Number 02-1638V

279. Charmaine O'Bryant on behalf of Ben Edward Varnado, Houston, Texas, Court of Federal Claims Number 02-1639V

280. Sharon Reed on behalf of Trevor Anthony Reed, Houston, Texas, Court of Federal Claims Number 02-1640V

281. Carla Wallace on behalf of A'Ja Wallace, Houston, Texas, Court of Federal Claims Number 02-1641V

282. Shalottie Reynolds on behalf of Michael Anthony Fort, Jr., Houston, Texas, Court of Federal Claims Number 02-1642V

283. Rozella Webb on behalf of Cadarrious Hodges, Houston, Texas, Court of Federal Claims Number 02-1643V

284. Maple Campbell on behalf of Jamie Gilson, Houston, Texas, Court of Federal Claims Number 02-1644V

285. Lori and Jeffrey Bradstreet on behalf of Matthew James Bradstreet, Melbourne, Florida, Court of Federal Claims Number 02-1645V

286. Suzanne and Russell Pieper on behalf of Sean Pieper, Melbourne, Florida, Court of Federal Claims Number 02-1646V

287. Lori and Jeffrey Bradstreet on behalf of Elizabeth Bradstreet, Melbourne, Florida, Court of Federal Claims Number 02-1647V

288. Alison and Daniel Bushnell on behalf of Joshua Bushnell, Auburn, Massachusetts, Court of Federal Claims Number 02-1648V

289. Natasha and John Hooks on behalf of Nijah Shemar Hooks, Hammond, Louisiana, Court of Federal Claims Number 02-1649V

290. Meri and Shawn Kelly on behalf of Daniel Laurnece Kelly, Whitestone, New York, Court of Federal Claims Number 02-1650V

291. Elizabeth and Robert Davis on behalf of Brandon Taylor Davis, Glendale, California, Court of Federal Claims Number 02-1651V

292. Bridgette and Stephen Hernandez on behalf of Stephen Matthew Hernandez, Gilbert, Arizona, Court of Federal Claims Number 02-1652V

293. Aimee and John Lewis on behalf of Brandon Thomas Lewis, Ridley Park, Pennsylvania, Court of Federal Claims Number 02-1653V

294. Julie and David Baskin on behalf of Danielle Alise Baskin, Houston, Texas, Court of Federal Claims Number 02-1654V

295. Kelly and Peter Brush on behalf of Peter James Brush, Harve De Grace, Maryland, Court of Federal Claims Number 02-1655V

296. Traci and Rodney Miller on behalf of Sydney Paige Miller, Latrobe, Pennsylvania, Court of Federal Claims Number 02-1656V

297. Jennifer and Kenneth Bartels on behalf of Jeremy Curtis Bartels, Neenah, Wisconsin, Court of Federal Claims Number 02-1657V

298. Jennifer and Kenneth Bartels on behalf of Joshua Aaron Bartels, Neenah, Wisconsin, Court of Federal Claims Number 02-1658V

299. Kimberly and Orville Baumgardner on behalf of Alexander Michael Baumgardner, Portland, Oregon, Court of Federal Claims Number 02-1659V

300. Catherine and Peter Marasco on behalf of Thomas Marasco, New York, New York, Court of Federal Claims Number 02-1660V

301. Donna and Elias Hourani on behalf of Stefan E. Hourani, Melbourne, Florida, Court of Federal Claims Number 02-1662V

302. Alfred Lonky, Bayside, New York, Court of Federal Claims Number 02-1663V

303. Jo Ann and Nicholas Stadtmueller on behalf of Mark Stadtmueller, Vienna, Virginia, Court of Federal Claims Number 02-1665V

304. Ben Radecky, Vienna, Virginia, Court of Federal Claims Number 02-1666V

305. Jillian and Scott Copeland on behalf of Nicolas Copeland, Vienna, Virginia, Court of Federal Claims Number 02-1667V

306. Haidee and Carl DeRouen on behalf of Isabella DeRouen, Cape Girardeau, Missouri, Court of Federal Claims Number 02-1668V

307. Connie Hudson on behalf of Adam Ebinger, Cape Girardeau, Missouri, Court of Federal Claims Number 02-1669V

308. Carrie and Clint Harlan on behalf of Hunter Harlan, Cape Girardeau, Missouri, Court of Federal Claims Number 02-1670V

309. Carola and Herman Bernard on behalf of Reginald L. Bernard, New Orleans, Louisiana, Court of Federal Claims Number 02-1672V

310. Ellen Schneider and Samuel Alexander on behalf of Benjamin D. Alexander, New Orleans, Louisiana, Court of Federal Claims Number 02-1673V

311. Georgia and Freddie Anderson on behalf of Robert Thomas-Anderson, New Orleans, Louisiana, Court of Federal Claims Number 02-1674V

312. Melissa McGrew and Larry Blackwell on behalf of Martin F. Blackwell, New Orleans, Louisiana, Court of Federal Claims Number 02-1675V

313. Chundra and Oscar Blakely on behalf of Ryan B. Blakely, New Orleans, Louisiana, Court of Federal Claims Number 02-1676V

314. Camilla and Gary Brown on behalf of Justin F. Brown, New Orleans, Louisiana, Court of Federal Claims Number 02-1677V

315. Allyson and Bryan Collins on behalf of Zachary W. Collins, New Orleans, Louisiana, Court of Federal Claims Number 02-1678V

316. Sherry and C.A. Cook on behalf of Darron A. Cook, New Orleans, Louisiana, Court of Federal Claims Number 02-1679V

317. Beverly and Jules Cousin on behalf of Evan C. Cousin, New Orleans, Louisiana, Court of Federal Claims Number 02-1680V

318. Cheryl and David Cutler on behalf of Jeremiah S. Cutler, New Orleans, Louisiana, Court of Federal Claims Number 02-1681V

319. Maurica Johnson and Lee Dickey on behalf of Demarkus Dickey, New Orleans, Louisiana, Court of Federal Claims Number 02-1682V

320. Sonja and Tony Flournoy on behalf of Tony K. Flournoy, Jr., New Orleans, Louisiana, Court of Federal Claims Number 02-1683V

321. Sue Ann and David Forbat on behalf of Luke E. Forbat, New Orleans, Louisiana, Court of Federal Claims Number 02-1684V

322. Connie and John Gamberi on behalf of John A. Gamberi, Jr., New Orleans, Louisiana, Court of Federal Claims Number 02-1685V

323. Gena Adams on behalf of Christopher T. Glover, New Orleans, Louisiana, Court of Federal Claims Number 02-1686V

324. Carolyn and Elton Green on behalf of Michael Green, New Orleans, Louisiana, Court of Federal Claims Number 02-1687V

325. Mary Jane and Scott Guidry on behalf of William Hunt Guidry, New Orleans, Louisiana, Court of Federal Claims Number 02-1688V

326. Wendy and Dustin Hilton on behalf of Hannah Hilton, New Orleans, Louisiana, Court of Federal Claims Number 02-1689V

327. Michelle Stewart Holloway on behalf of Arnissa Lachell Holloway, New Orleans, Louisiana, Court of Federal Claims Number 02-1690V

328. Jaquary Jackson on behalf of Kheirin Jackson, New Orleans, Louisiana, Court of Federal Claims Number 02-1691V

329. Laurie and Mark Klinedinst on behalf of Kelsey F. Klinedinst, New Orleans, Louisiana, Court of Federal Claims Number 02-1692V

330. Shirley Lacey on behalf of Ahkeem Lacey, New Orleans, Louisiana, Court of Federal Claims Number 02-1693V

331. Kristi Lee on behalf of Justin Samuel, New Orleans, Louisiana, Court of Federal Claims Number 02-1694V

332. Catherine and Kenneth Montz on behalf of Seth J. Montz, New Orleans, Louisiana, Court of Federal Claims Number 02-1695V

333. Teri and Tracy Pitts on behalf of Jerod A. Pitts, New Orleans, Louisiana, Court of Federal Claims Number 02-1696V

334. Brandi Poteat on behalf of Ethan Poteat, New Orleans, Louisiana, Court of Federal Claims Number 02-1697V

335. Victoria and Kelvin Samuel on behalf of Karnisha L. Samuel, New Orleans, Louisiana, Court of Federal Claims Number 02-1698V

336. Dianna Lyn Schumacher, New Orleans, Louisiana, Court of Federal Claims Number 02-1699V

337. Annette and John Stewart on behalf of Ian E. Stewart, New Orleans, Louisiana, Court of Federal Claims Number 02-1700V

338. Vanessa and Sherman Thomas on behalf of Sherman A. Thomas, Jr., New Orleans, Louisiana, Court of Federal Claims Number 02-1701V

339. Jennifer and James Toombs on behalf of Jacob M. Toombs, New Orleans, Louisiana, Court of Federal Claims Number 02-1702V

340. Lauren and David Underwood on behalf of Rachael H. Underwood, New Orleans, Louisiana, Court of Federal Claims Number 02-1703V

341. Donna and Thomas Williams on behalf of Dylan R. Williams, New Orleans, Louisiana, Court of Federal Claims Number 02-1704V

342. Shawanda and Theodore Williams on behalf of Elijah Williams, New Orleans, Louisiana, Court of Federal Claims Number 02-1705V

343. Shawanda and Theodore Williams on behalf of Jeremy Williams, New Orleans, Louisiana, Court of Federal Claims Number 02-1706V

344. Julie and James Christiansen on behalf of Karissa Joann Christiansen, Temecula, California, Court of Federal Claims Number 02-1707V

345. Tony Vi and Thuy Hunyh on behalf of Brandon Vi, Temecula, California, Court of Federal Claims Number 02-1708V

346. Michelle and Harold Hannon on behalf of Christian Hannon, Temecula, California, Court of Federal Claims Number 02-1709V

347. Monica and Scott Mattias on behalf of Alexander Scott Mattias, Temecula, California, Court of Federal Claims Number 02-1710V

348. Charleyne Stumpf on behalf of Kyle William Stumpf, Chelmsford, Massachusetts, Court of Federal Claims Number 02-1711V

349. Alton Alexander on behalf of Alton Aaron Alexander, Tyler, Texas, Court of Federal Claims Number 02-1712V

350. Ann-Marie and Patrick Growe on behalf of Danile Growe, Minneapolis, Minnesota, Court of Federal Claims Number 02-1713V

351. Kelly and Richard Kerns on behalf of Kayle Kerns, Olathe, Kansas, Court of Federal Claims Number 02-1714V

352. Kelly and Richard Kerns on behalf of Daniel Kerns, Olathe, Kansas, Court of Federal Claims Number 02-1715V

353. Janel McGrath on behalf of Amanda McGrath, Portland, Oregon, Court of Federal Claims Number 02-1716V

354. Cindy Nix on behalf of Garrett Nix, Portland, Oregon, Court of Federal Claims Number 02-1717V

355. Julia Oh on behalf of Brayden Oh, Portland, Oregon, Court of Federal Claims Number 02-1718V

356. Christine Roberts on behalf of Carl Roberts, Portland, Oregon, Court of Federal Claims Number 02-1719V

357. Andrea Sovern on behalf of Kolin Sovern, Portland, Oregon, Court of Federal Claims Number 02-1720V

358. Karen and Christopher Stanley on behalf of Heath Stanley, Portland, Oregon, Court of Federal Claims Number 02-1721V

359. Rachel Kirk on behalf of Deven Kirk, Portland, Oregon, Court of Federal Claims Number 02-1722V

360. Angela Bliss-Chavelas on behalf of Alexander Chavelas, Portland, Oregon, Court of Federal Claims Number 02-1723V

361. Kemberlya Finnie on behalf of Sha Quana Finnie, Portland, Oregon, Court of Federal Claims Number 02-1724V

362. Tracey Imper on behalf of Jadin Imper, Portland, Oregon, Court of Federal Claims Number 02-1725V

363. Bree Lyn Lewis on behalf of Hope Lewis, Portland, Oregon, Court of Federal Claims Number 02-1726V

364. Jonathan Mahurin on behalf of Tristan Mahurin, Portland, Oregon, Court of Federal Claims Number 02-1727V

365. Sha and Jason Hurst on behalf of Hannah Hurst, Birmingham, Alabama, Court of Federal Claims Number 02-1732V

366. Terri Nagel on behalf of Ethan Nathan McCabe, Great Neck, New York, Court of Federal Claims Number 02-1733V

367. Kelly and Bradley King on behalf of Sean King, Great Neck, New York, Court of Federal Claims Number 02-1734V

368. Joanne and Gregory Killiam on behalf of Zackery S. Killiam, Great Neck, New York, Court of Federal Claims Number 02-1735V

369. Cindy and Jason Kifer on behalf of Austin Kifer, Great Neck, New York, Court of Federal Claims Number 02-1736V

370. Michele and Vincent Lovenduski on behalf of Austin Lovenduski, Great Neck, New York, Court of Federal Claims Number 02-1737V

371. Kim Lampp on behalf of Joseph R. Lampp, Great Neck, New York, Court of Federal Claims Number 02-1738V

372. Dale Norman on behalf of Alexander Norman, Boston, Massachusetts, Court of Federal Claims Number 02-1739V

373. Benjamin Blood on behalf of Paul Blood, Boston, Massachusetts, Court of Federal Claims Number 02-1740V

374. Vincent Fusco on behalf of Vincent A. Fusco, Boston, Massachusetts, Court of Federal Claims Number 02-1741V

375. Nathaniel Brogan-Kim on behalf of Paul Kim, Boston, Massachusetts, Court of Federal Claims Number 02-1742V

376. Lori Matula on behalf of Paul Matula, Arlington Heights, Illinois, Court of Federal Claims Number 02-1743V

377. Donna Manente on behalf of Melanie Manente, Vienna, Virginia, Court of Federal Claims Number 02-1746V

378. Donna Manente on behalf of Michael Manente, Vienna, Virginia, Court of Federal Claims Number 02-1747V

379. Julie and Seth Hemingway on behalf of Colter Hemingway, Vienna, Virginia, Court of Federal Claims Number 02-1748V

380. Kelly and Richard Kerns on behalf of Andrew Kerns, Olathe, Kansas, Court of Federal Claims Number 02-1749V

381. Jinger Rosalez-Fergus on behalf of Charles Fergus, Boston, Massachusetts, Court of Federal Claims Number 02-1750V

382. Shelley Woodard on behalf of Dylan Hunt, Boston, Massachusetts, Court of Federal Claims Number 02-1751V

383. Sandra Cuevas on behalf of Jacob Cuevas, Boston, Massachusetts, Court of Federal Claims Number 02-1752V

384. Margaret Simms on behalf of Joshua Simms, Boston, Massachusetts, Court of Federal Claims Number 02-1753V

385. Ursula Zettlemoyer on behalf of Melanie Zettlemoyer, Boston, Massachusetts, Court of Federal Claims Number 02-1754V

386. Toby Gregory on behalf of Jonathan Dean Gregory, Boston, Massachusetts, Court of Federal Claims Number 02-1755V

387. Mary Wallace on behalf of Grant Wallace, Boston, Massachusetts, Court of Federal Claims Number 02-1756V

388. Gabriele Sausnock on behalf of Joseph Brady, IV, Boston, Massachusetts, Court of Federal Claims Number 02-1757V

389. Richard A. Diamond on behalf of Richard F. Diamond, Boston, Massachusetts, Court of Federal Claims Number 02-1758V

390. Irene Sturgeon on behalf of Jacob Sturgeon, Boston, Massachusetts, Court of Federal Claims Number 02-1759V

391. Kay and Thomas Dykes on behalf of Thomas Dykes, Jr., Houston, Texas, Court of Federal Claims Number 02-1760V

392. Jacquelyn Wilkerson and Scott Shirley on behalf of Jordan Shirley, Houston, Texas, Court of Federal Claims Number 02-1761V

393. Martin O'Brien and Jacqueline Mooney O'Brien on behalf of Kevin O'Brien, Houston, Texas, Court of Federal Claims Number 02-1762V

394. Cheryl and Donald Bondank on behalf of Gunnar H. Bondank, Houston, Texas, Court of Federal Claims Number 02-1763V

395. Ilene and Thomas Bassler on behalf of Daniel Bassler, Great Neck, New York, Court of Federal Claims Number 02-1764V

396. Carmen and Craig Carley on behalf of Collin Seamus Carley, Dallas, Texas, Court of Federal Claims Number 02-1765V

397. Jennifer and Scott Kincaid on behalf of Lauren Kincaid, Lewisville, Texas, Court of Federal Claims Number 02-1766V

398. Cathy Dean, Lyburn, West Virginia, Court of Federal Claims Number 02-1769V

399. Lisa and Michael Fesanco on behalf of Michael John Fesanco, North Miami, Florida, Court of Federal Claims Number 02-1770V

400. Adraine and David Kerns on behalf of Christopher Wayne Kerns, Richmond, Virginia, Court of Federal Claims Number 02-1771V

401. Kim and Paul Morel on behalf of Brittany Mashell Morel, Milton, Florida, Court of Federal Claims Number 02-1772V

402. Edward Page, Sr. on behalf of Florence Page, Deceased, Boston, Massachusetts, Court of Federal Claims Number 02-1774V

403. Barbara Hall on behalf of Dennis Culbert, Houston, Texas, Court of Federal Claims Number 02-1775V

404. Kenyada Snell on behalf of Cedarrious Dunmore, Houston, Texas, Court of Federal Claims Number 02-1776V

405. Lisa Jackson on behalf of Sabrina Jackson, Houston, Texas, Court of Federal Claims Number 02-1777V

406. Shamarion Jones on behalf of Ronald Williams, Jr., Houston, Texas, Court of Federal Claims Number 02-1778V

407. Yakima Thomas on behalf of Anfernee Thomas, Houston, Texas, Court of Federal Claims Number 02-1779V

408. Brenda White on behalf of Steven White, Houston, Texas, Court of Federal Claims Number 02-1780V

409. Cathy Hedrick on behalf of Jayce Hedrick, Houston, Texas, Court of Federal Claims Number 02-1781V

410. Cathy Hedrick on behalf of Marvin Hedrick, Houston, Texas, Court of Federal Claims Number 02-1782V

411. Lynda Green on behalf of Anthony Dean, Jr., Houston, Texas, Court of Federal Claims Number 02-1783V

412. Victoria Andrews on behalf of Orry Andrews, Houston, Texas, Court of Federal Claims Number 02-1784V

413. Penny Taylor on behalf of Brianna Ainsworth, Houston, Texas, Court of Federal Claims Number 02-1785V

414. Steven Gretchko on behalf of Benjamin Gretchko, Birmingham, Michigan, Court of Federal Claims Number 02-1788V

415. Kathleen and Jordan Vickers on behalf of Jordan Vickers, Jr., Houston, Texas, Court of Federal Claims Number 02-1789V

416. Renee and James Stepnoski on behalf of Tyler Stepnoski, Houston, Texas, Court of Federal Claims Number 02-1790V

417. Carol and Ken Stanton on behalf of Krystal L. Stanton, Houston, Texas, Court of Federal Claims Number 02-1791V

418. Pattie and Galen Gamble on behalf of Garet E. Bamble, Houston, Texas, Court of Federal Claims Number 02-1792V

419. Melanie G. Mulderig on behalf of Nicholas J. Mulderig, Alexandria, Virginia, Court of Federal Claims Number 02-1793V

420. Karen Harbin on behalf of Ryka Nicole Harbin, Deceased, Gurly, Alabama, Court of Federal Claims Number 02-1794V

421. Katheryn and Timothy Hartigan on behalf of Conner M. Hardigan, Melbourne, Florida, Court of Federal Claims Number 02-1796V

422. Beth and Bill Wilson on behalf of Mitchell Wilson, Deceased, Los Gatos, California, Court of Federal Claims Number 02-1797V

423. Angela and Renato Spennato on behalf of Gennaro Spennato, Great Neck, New York, Court of Federal Claims Number 02-1798V

424. Cherie and Richard Gates on behalf of Riyo Gates, Great Neck, New York, Court of Federal Claims Number 02-1799V

425. Elaine Sorenson on behalf of Eldon Sorenson, Portland, Oregon, Court of Federal Claims Number 02-1800V

426. Kimberly Ngo on behalf of Joan Ngo, Portland, Oregon, Court of Federal Claims Number 02-1801V

427. Melissa Hicks on behalf of Liberty Hicks, Portland, Oregon, Court of Federal Claims Number 02-1802V

428. Darren Lamar Cooks on behalf of Jason Lawrence Cooks, Tyler, Texas, Court of Federal Claims Number 02-1803V

429. Helen Vaglia on behalf of Dean Vaglia, Boston, Massachusetts, Court of Federal Claims Number 02-1804V

430. Denise and Michael Carrillo on behalf of Matthew Carrillo, Chicago, Illinois, Court of Federal Claims Number 02-1805V

431. Julie and Mark Murtagh on behalf of Mark G. Murtagh, III, Alexandria, Virginia, Court of Federal Claims Number 02-1806V

432. Shirley Cruel on behalf of Carlos Anderson, Houston, Texas, Court of Federal Claims Number 02-1808V

433. Yulunda Henry-Lacking on behalf of Kevonte Henry, Houston, Texas, Court of Federal Claims Number 02-1809V

434. Sharon Kaho on behalf of Joseph Knight, Jr., Houston, Texas, Court of Federal Claims Number 02-1810V

435. Sharon Kaho on behalf of Joshua Knight, Houston, Texas, Court of Federal Claims Number 02-1811V

436. Bessie DuVaul on behalf of JaJuan DeVaul, Houston, Texas, Court of Federal Claims Number 02-1812V

437. Nicole Freeman on behalf of Shukeven Freeman, Houston, Texas, Court of Federal Claims Number 02-1813V

438. Michael Goff on behalf of Maegan Goff, Houston, Texas, Court of Federal Claims Number 02-1814V

439. Michelle Wilson on behalf of Rodreckos Hill, Houston, Texas, Court of Federal Claims Number 02-1815V

440. Michelle Wilson on behalf of James Hill, Houston, Texas, Court of Federal Claims Number 02-1816V

441. Margie January on behalf of Elmo January, Houston, Texas, Court of Federal Claims Number 02-1817V

442. Dorothy Green on behalf of Earl Manning, Jr., Houston, Texas, Court of Federal Claims Number 02-1818V

443. Connie Thomas on behalf of Cordrion Tucker, Houston, Texas, Court of Federal Claims Number 02-1819V

444. Barbara Wells-Henry on behalf of Quatavieus Wells, Houston, Texas, Court of Federal Claims Number 02-1820V

445. Catherine and Jared Cook on behalf of McCrae Cook, Melbourne, Florida, Court of Federal Claims Number 02-1821V

446. Patricia and Brett Brenner on behalf of Bradley Brenner, Melbourne, Florida, Court of Federal Claims Number 02-1822V

447. Virginia and Robin Conner on behalf of Matthew R. Conner, Melbourne, Florida, Court of Federal Claims Number 02-1823V

448. Kimberly and James Barry on behalf of Shawn P. Barry, Melbourne, Florida, Court of Federal Claims Number 02-1824V

449. Susan and Jimmy Carr on behalf of Daniel V. Carr, Panama City Beach, Florida, Court of Federal Claims Number 02-1825V

450. Laurey Tedeschi on behalf of Jagger Thomas Geroge-Tedeschi, Dallas, Texas, Court of Federal Claims Number 02-1826V

451. Sandra Daneri on behalf of Erik Daneri, Harvest, Alabama, Court of Federal Claims Number 02-1831V

452. Elizabeth and Steven Skovron on behalf of Quinn Philip Skovron, Philadelphia, Pennsylvania, Court of Federal Claims Number 02-1832V

453. Atoya Moses on behalf of Gadarius Gavon Russell, Dallas, Texas, Court of Federal Claims Number 02-1833V

454. Gregory Newman on behalf of Benjamin Lawrence Newman, Ridgeland, Mississippi, Court of Federal Claims Number 02-1834V

455. Kathren Pigg-Kelly on behalf of Jason Mark Kelly, Petal, Mississippi, Court of Federal Claims Number 02-1835V,

456. Billy Gresham on behalf of Joshua Gresham, Jackson, Mississippi, Court of Federal Claims Number 02-1836V

457. Nina Del Rio on behalf of Rachel Renee Del Rio, Jackson, Mississippi, Court of Federal Claims Number 02-1837V

458. Jornella M. Hattix on behalf of Ladasia N. Brown, Jackson, Mississippi, Court of Federal Claims Number 02-1838V

459. Melanie Yelverton on behalf of Jasmine Hope Abel, Jackson, Mississippi, Court of Federal Claims Number 02-1839V

460. James E. Nicholson on behalf of Jeremy Clydell Nicholson, Jackson, Mississippi, Court of Federal Claims Number 02-1840V

461. Kacey Black Burgess on behalf of Maxwell Parker Lee Burgess, Jackson, Mississippi, Court of Federal Claims Number 02-1841V

462. Sylvia Brown on behalf of Jasmine Racquel Brown, Mesquite, Texas, Court of Federal Claims Number 02-1842V

463. Rosa E. Douglas on behalf of John William Douglas, El Paso, Texas, Court of Federal Claims Number 02-1843V

464. Krissy J. Fagan on behalf of Bradley Kole Fagan, Arlington, Texas, Court of Federal Claims Number 02-1844V

465. Rhonda L. Jones on behalf of Kristin M. Jones, Beaumont, Texas, Court of Federal Claims Number 02-1845V

466. Lilly Martinez Davila on behalf of Adrian Andrew Martinez, El Paso, Texas, Court of Federal Claims Number 02-1846V

467. Joel Salas, Sr. on behalf of Joel Salas, Jr., Dallas, Texas, Court of Federal Claims Number 02-1847V

468. Bennetta Chiles on behalf of Toni Chiles, Arlington, Texas, Court of Federal Claims Number 02-1848V

469. Gricelda Gonzalez on behalf of Evelyn S. Uvalle, Dallas, Texas, Court of Federal Claims Number 02-1849V

470. Gricelda Gonzalez on behalf of Rolando Uvalle, Dallas, Texas, Court of Federal Claims Number 02-1850V

471. Cheryl Karns on behalf of Scott David Karns, Tyler, Texas, Court of Federal Claims Number 02-1852V

472. Patricia Demoville on behalf of Dakota Lee Demoville, Tyler, Texas, Court of Federal Claims Number 02-1853V

473. Sherry Pearson on behalf of Tristen Lloyd Pearson, Tyler, Texas, Court of Federal Claims Number 02-1857V

474. Annette Lagan on behalf of Bryan Lagan, Vienna, Virginia, Court of Federal Claims Number 02-1858V

475. Monica and Matthew White on behalf of Kendrick White, Richmond, Virginia, Court of Federal Claims Number 02-1859V

476. Rosemary and Joel Walker on behalf of Benjamin Walker, Salisbury, North Carolina, Court of Federal Claims Number 02-1860V

477. Brandi Lewellyn on behalf of Brandon Pressler, Salisbury, North Carolina, Court of Federal Claims Number 02-1861V

478. Luann and Kent McIver on behalf of David McIver, Salisbury, North Carolina, Court of Federal Claims Number 02-1862V

479. Luann and Kent McIver on behalf of Eric McIver, Salisbury, North Carolina, Court of Federal Claims Number 02-1863V

480. Amy and Vernon Marion on behalf of Nicholas Chase Marion, Salisbury, North Carolina, Court of Federal Claims Number 02-1864V

481. Cynthia Davis on behalf of Zachary Davis, Salisbury, North Carolina, Court of Federal Claims Number 02-1865V

482. Kasandra Adams on behalf of Terrence Adams, Jr., Houston, Texas, Court of Federal Claims Number 02-1866V

483. Sheila Lumpkin on behalf of Eliezer Beamen, Houston, Texas, Court of Federal Claims Number 02-1867V

484. Lavena Williams on behalf of Eddronica Williams, Houston, Texas, Court of Federal Claims Number 02-1868V

485. Thelma Wilson on behalf of Richandra Thomas, Houston, Texas, Court of Federal Claims Number 02-1869V

486. Supermia Shannon on behalf of Stanton Scott, Jr., Houston, Texas, Court of Federal Claims Number 02-1870V

487. Sherry Luss on behalf of Martin Robertson, Houston, Texas, Court of Federal Claims Number 02-1871V

488. Belinda Flowers on behalf of Eugena Grisby, Houston, Texas, Court of Federal Claims Number 02-1872V

489. Valerie Shropshire on behalf of Israel Smith, Houston, Texas, Court of Federal Claims Number 02-1873V

490. Stephanie and Eric Roan on behalf of Ashley E. Roan, Houston, Texas, Court of Federal Claims Number 02-1874V

491. Cindy and William Van Lammeren on behalf of John Van Lammeren, Houston, Texas, Court of Federal Claims Number 02-1875V

492. Angela and Joseph Rockhold on behalf of Trayven Rockhold, Houston, Texas, Court of Federal Claims Number 02-1876V

493. Jennifer and Kevin Teague on behalf of Tristan R. Teague, Houston, Texas, Court of Federal Claims Number 02-1877V

494. Cindy and William Van Lammeren on behalf of Hannah Van Lammeren, Houston, Texas, Court of Federal Claims Number 02-1878V

495. Marlene Sirianno on behalf of Matthew Ryan Sirianno, Hamburg, New York, Court of Federal Claims Number 02-1879V

496. Connie Parish on behalf of Crystal Marian Parrish, Tyler, Texas, Court of Federal Claims Number 02-1880V

497. Nadia Keyes on behalf of Keith DiMauni London, Tyler, Texas, Court of Federal Claims Number 02-1881V

498. Frances Dinkins on behalf of Blake Turner Dinkins, Tyler, Texas, Court of Federal Claims Number 02-1882V

499. Jeannette Ortiz Quintero on behalf of Armando Quintero, Boston, Massachusetts, Court of Federal Claims Number 02-1883V

500. Philip Lanzatella on behalf of Philip J. Lanzatella, III, Boston, Massachusetts, Court of Federal Claims Number 02-1884V

501. Susan Cottingham on behalf of Meagan Cottingham, Boston, Massachusetts, Court of Federal Claims Number 02-1885V

502. Rita Black on behalf of Harmon Black, Boston, Massachusetts, Court of Federal Claims Number 02-1886V

503. Michael Farquhar on behalf of Katelyn Farquhar, Boston, Massachusetts, Court of Federal Claims Number 02-1887V

504. Rosemarie Scott on behalf of Clarita Faith Scott, Boston, Massachusetts, Court of Federal Claims Number 02-1888V

505. Thomas Marateo on behalf of Nicholas Marateo, Boston, Massachusetts, Court of Federal Claims Number 02-1889V

506. Donna Knepple on behalf of Taylor Knepple, Boston, Massachusetts, Court of Federal Claims Number 02-1890V

507. Brian Aaron on behalf of Liam Aaron, Boston, Massachusetts, Court of Federal Claims Number 02-1891V

508. Patricia and Kyle Sonnier on behalf of Benjamin Sonnier, Baton Rouge, Louisiana, Court of Federal Claims Number 02-1892V

509. Laura and Jay Stutz on behalf of Jeremy Stutz, New York, New York, Court of Federal Claims Number 02-1893V

510. Cheryl Hammonds on behalf of Myles Hammonds, Alexandria, Virginia, Court of Federal Claims Number 02-1898V

511. Misti McGill on behalf of Patric Conner, Boston, Massachusetts, Court of Federal Claims Number 02-1899V

512. Barbara Fortin on behalf of Kelly Fortin, Boston, Massachusetts, Court of Federal Claims Number 02-1900V

513. Amy Pressley on behalf of Tyler Pressley, Boston, Massachusetts, Court of Federal Claims Number 02-1901V

514. Stephen Osmon on behalf of Grant Osmon, Boston, Massachusetts, Court of Federal Claims Number 02-1902V

515. Marie Graves on behalf of Joshua Graves, Boston, Massachusetts, Court of Federal Claims Number 02-1903V

516. Cynthia Rosas on behalf of Tyler Santana, Boston, Massachusetts, Court of Federal Claims Number 02-1904V

517. Tracy Yale on behalf of Richard Logan Yale, Boston, Massachusetts, Court of Federal Claims Number 02-1905V

518. James Novorr on behalf of Jacob Novorr, Boston, Massachusetts, Court of Federal Claims Number 02-1906V

519. Melissa Coleman on behalf of Brendon King, Brockton, Massachusetts, Court of Federal Claims Number 02-1907V

520. Michelle and David Lane on behalf of Aaron Keith Lane, Dallas, Texas, Court of Federal Claims Number 02-1910V

521. Debra Abbott on behalf of Brent Abbott, Boston, Massachusetts, Court of Federal Claims Number 02-1911V

522. Cynthia Pichardo on behalf of George Pichardo, Boston, Massachusetts, Court of Federal Claims Number 02-1912V

523. Eric Thacker on behalf of Trenton Thacker, Boston, Massachusetts, Court of Federal Claims Number 02-1913V

524. Cynthia Dougherty on behalf of Matthew Dougherty, Vienna, Virginia, Court of Federal Claims Number 02-1926V

525. Cynthia Dougherty on behalf of Jennifer Dougherty, Vienna, Virginia, Court of Federal Claims Number 02-1927V

526. Anette Arthur and Peter Salmon on behalf of Peter Lothar Salmon, Jr., Brick, New Jersey, Court of Federal Claims Number 02-1928V

527. Patricia and Bradford Wheeler on behalf of Sheridan Laine Wheeler, Scottsdale, Arizona, Court of Federal Claims Number 02-1929V

528. Michele and Joel Wright on behalf of Mason Patrick Wright, Somers Point, New Jersey, Court of Federal Claims Number 02-1930V

529. Carmella and Spencer Shumate on behalf of Kenneth Spencer Shumate, Chicago, Illinois, Court of Federal Claims Number 02-1931V

530. Lisa and David Wilcox on behalf of Parker Bruce Wilcox, Lansing, Michigan, Court of Federal Claims Number 02-1932V

531. Shannon and Chad Beaty on behalf of Kade Anthony Beaty, Little Rock, Arkansas, Court of Federal Claims Number 02-1933V

532. Gisele Swanson on behalf of Mick Swanson, Portland, Oregon, Court of Federal Claims Number 02-1934V

533. Daniel Krasner and Alexandria Martins on behalf of Edward M. Martins-Krasner, Dallas, Texas, Court of Federal Claims Number 02-1935V

534. Mary Beth and Eric Williams on behalf of Samuel Williams, Vienna, Virginia, Court of Federal Claims Number 02-1938V

535. Carl Bialorucki on behalf of Bonnie Bialorucki, Boston, Massachusetts, Court of Federal Claims Number 02-1939V

536. Andrea Abraham on behalf of Jesse Abraham, Boston, Massachusetts, Court of Federal Claims Number 02-1940V

537. Carolyn Bunt on behalf of Michael Bunt, Boston, Massachusetts, Court of Federal Claims Number 02-1941V

538. Leslie Villarreal on behalf of Tyler Villarreal, Boston, Massachusetts, Court of Federal Claims Number 02-1942V

539. Deanna Wagner on behalf of Samantha Barefield, Boston, Massachusetts, Court of Federal Claims Number 02-1943V

540. Angela Vines on behalf of Colton Vines, Boston, Massachusetts, Court of Federal Claims Number 02-1944V

541. Sariah Wilson on behalf of Kaleb Wilson, Boston, Massachusetts, Court of Federal Claims Number 02-1945V

542. Deborah Haney on behalf of Allison Haney, Boston, Massachusetts, Court of Federal Claims Number 02-1946V

543. Amy Ellsworth on behalf of Daniel Ellsworth, Boston, Massachusetts, Court of Federal Claims Number 02-1947V

544. Jenni Ogden on behalf of Alexis Ogden, Boston, Massachusetts, Court of Federal Claims Number 02-1948V

545. Rebecca and Kevin Wagnon on behalf of Andrew Ryan Wagnon, Dallas, Texas, Court of Federal Claims Number 02-1949V

546. Darla and Kirk Botter on behalf of Cody Wyatt Botter, Dallas, Texas, Court of Federal Claims Number 02-1950V

547. Madeline and Robert Kennedy on behalf of Michael Jacob Kennedy, Saint Louis, Missouri, Court of Federal Claims Number 02-1951V

548. Syed Muniruzzaman on behalf of Nafessa Syed, Tyler, Texas, Court of Federal Claims Number 02-1954V

549. Wilhelmina York on behalf of Joshua York, Tyler, Texas, Court of Federal Claims Number 02-1955V

550. Laronica Smith on behalf of Quindon Jawan Wooten, Tyler, Texas, Court of Federal Claims Number 02-1956V

551. Elmer Valle on behalf of Diego Isai Valle, Tyler, Texas, Court of Federal Claims Number 02-1957V

552. Keva Washington on behalf of Kevone Maurice Washington, Tyler, Texas, Court of Federal Claims Number 02-1958V

553. Sherry Pitre on behalf of Catherine Ann Pitre, Tyler, Texas, Court of Federal Claims Number 02-1959V

554. Tracy Ball on behalf of Chase Xavier Washington, Tyler, Texas, Court of Federal Claims Number 02-1960V

555. Myrna Manco on behalf of Steven Manco, Great Neck, New York, Court of Federal Claims Number 02-1961V

556. Anna and Irving Sepulveda on behalf of Kenneth Mikale Sepulveda, New York, New York, Court of Federal Claims Number 02-1962V

557. Joseph Donohue on behalf of Sean J. Donohue, Rochester, New York, Court of Federal Claims Number 02-1963V

558. Elaine and Ronald Muthig on behalf of Joseph Muthig, Schenectady, New York, Court of Federal Claims Number 02-1964V

559. Rebecca and Timothy Gleeson on behalf of Anthony Gleeson, Harrisburg, Pennsylvania, Court of Federal Claims Number 02-1965V

560. Darlene & Nicholas Downes on behalf of Alannah Mary Downes & Sean Andrew Downes, New York, New York, Court of Federal Claims Number 02-1966V

561. Susan Zottoli on behalf of Anthony Zottoli, Meuthen, Massachusetts, Court of Federal Claims Number 02-1967V

562. Annette Farrell on behalf of Shelby G. Farrell-Romeo, Cambridge, Massachusetts, Court of Federal Claims Number 02-1968V

563. Jean M. Whelan on behalf of Daniel Joseph Whelan, Dover, New Hampshire, Court of Federal Claims Number 02-1969V

564. Jean M. Whelan on behalf of William Tierney Whelan, Dover, New Hampshire, Court of Federal Claims Number 02-1970V

565. Regina and Terry Harper on behalf of Brandon Tyler Harper, Dallas, Texas, Court of Federal Claims Number 02-1971V

566. Renea and Keith Reynolds on behalf of Benjamin Michael Reynolds, New York, New York, Court of Federal Claims Number 02-1972V

567. Celeste Hopkins, Las Vegas, Nevada, Court of Federal Claims Number 02-1973V

568. Christine Coffin on behalf of Alex Coffin, Scotia, New York, Court of Federal Claims Number 02-1975V

569. Melissa Paisley on behalf of Kareem Nelson, Manning, South Carolina, Court of Federal Claims Number 02-1976V

570. Christine Brooks on behalf of Christopher Brooks, Walterboro, South Carolina, Court of Federal Claims Number 02-1977V

571. Tracy and Joel Enzor on behalf of Natalie Danielle Enzor, Garden City, South Carolina, Court of Federal Claims Number 02-1978V

572. Mary Williams on behalf of Courtney N. Williams, Great Neck, New York, Court of Federal Claims Number 02-1979V

573. Elena Byrd on behalf of Jonathan S. Byrd, Great Neck, New York, Court of Federal Claims Number 02-1980V

574. Tracy Ranno on behalf of Dominic Ranno, Great Neck, New York, Court of Federal Claims Number 02-1981V

575. Thelma Janina Reyes and Collin Richard on behalf of Donald Carter Richard, Great Neck, New York, Court of Federal Claims Number 02-1982V

576. Bryan Weissman on behalf of Michael Weissman, Great Neck, New York, Court of Federal Claims Number 02-1983V

577. Gloria M. Masse on behalf of Alec Masse, Great Neck, New York, Court of Federal Claims Number 02-1984V

578. Edward William Shannon on behalf of Maria K. Shannon, Great Neck, New York, Court of Federal Claims Number 02-1985V

579. Desiree and Troy Feliciano on behalf of Isaiah Feliciano, Great Neck, New York, Court of Federal Claims Number 02-1986V

580. James Searle on behalf of Jonathan Emmanuel Searle, Great Neck, New York, Court of Federal Claims Number 02-1987V

581. Brenda Vactor on behalf of Julian Vactor, Great Neck, New York, Court of Federal Claims Number 02-1988V

582. Joanne Schmitt on behalf of Ryan James Sarver, Great Neck, New York, Court of Federal Claims Number 02-1989V

583. Anita M. Sherman on behalf of Benjamin Moriss Sherman, Great Neck, New York, Court of Federal Claims Number 02-1990V

584. Cheryl Stanescu on behalf of Nicholas Stanescu, Great Neck, New York, Court of Federal Claims Number 02-1991V

585. Maria and Philip Ehrlich on behalf of Brandon L.M. Ehrlich, Great Neck, New York, Court of Federal Claims Number 02-1992V

586. Angela Tresize on behalf of Travis Mathew Tresize, Great Neck, New York, Court of Federal Claims Number 02-1993V

587. Jose Montalvo and Maria Rivero on behalf of Diego Rivero, Great Neck, New York, Court of Federal Claims Number 02-1994V

588. Justina Burke on behalf of Jada Burke, Great Neck, New York, Court of Federal Claims Number 02-1995V

589. Cheryl Stanescu on behalf of Gabriella Stanescu, Great Neck, New York, Court of Federal Claims Number 02-1996V

590. Maureen Schell on behalf of Vincent Schell, Great Neck, New York, Court of Federal Claims Number 02-1997V

591. Kimberly Robert on behalf of Hannah Kay Robert, Great Neck, New York, Court of Federal Claims Number 02-1998V

592. Gloria Paria and Gustavo Rincon on behalf of Kevin Rincon, Great Neck, New York, Court of Federal Claims Number 02-1999V

593. Luwana and Russell Brown on behalf of Trevor Michael Brown, Miami, Florida, Court of Federal Claims Number 02-2000V

594. Hope and David Clayman on behalf of Jeremy Clayman, Miami, Florida, Court of Federal Claims Number 02-2001V

595. Beth and Gary Kompothecras on behalf of Jefferson Kompothecras, Miami, Florida, Court of Federal Claims Number 02-2002V

596. Wendy and Steven Bredall on behalf of Conor Bredall, Miami, Florida, Court of Federal Claims Number 02-2003V

597. Beth Ann and Lawrence Volpe on behalf of Zachary Lawrence Volpe, Miami, Florida, Court of Federal Claims Number 02-2004V

598. Idalmis Rodriguez on behalf of Emmanuel Placeres, Miami, Florida, Court of Federal Claims Number 02-2005V

599. Stephanie and Robert Taylor on behalf of Tyson Taylor, Miami, Florida, Court of Federal Claims Number 02-2006V

600. Judith and Eric Vartal on behalf of Eric Vartal, Miami, Florida, Court of Federal Claims Number 02-2007V

601. Candace and John Shanaughy on behalf of Tyler Shanaughy, Miami, Florida, Court of Federal Claims Number 02-2008V

602. Jane and Jim Mitchell on behalf of Thomas Mitchell, Miami, Florida, Court of Federal Claims Number 02-2009V

603. Monica and Patrick McAloney on behalf of John McAloney, Miami, Florida, Court of Federal Claims Number 02-2010V

604. Paula Mueller on behalf of Michael Mueller, Miami, Florida, Court of Federal Claims Number 02-2011V

605. Barbara Lupo on behalf of Michael Lupo, Miami, Florida, Court of Federal Claims Number 02-2012V

606. Maryann Rubio on behalf of Anthony J. Rubio, Miami, Florida, Court of Federal Claims Number 02-2013V

607. Deann and Gregory Sanders on behalf of Colter Lynn Sanders, Miami, Florida, Court of Federal Claims Number 02-2014V

608. Cindy and Thomas Whitby on behalf of Ronnie Whitby, Miami, Florida, Court of Federal Claims Number 02-2015V

609. Charis and Brian Wheless on behalf of Joseph Wheless, Miami, Florida, Court of Federal Claims Number 02-2016V

610. John Errington on behalf of Nicholas C. Errington, Miami, Florida, Court of Federal Claims Number 02-2017V

611. Ellen and Greg Blackburn on behalf of Aaron Blackburn, Miami, Florida, Court of Federal Claims Number 02-2018V

612. Julianna and Michael Boisvert on behalf of Benjamin Boisvert, Miami, Florida, Court of Federal Claims Number 02-2019V

613. Beth and Gary Kompothecras on behalf of Sarah Kompothecras, Miami, Florida, Court of Federal Claims Number 02-2020V

614. Christine and Todd Standish on behalf of Cara Standish, Melbourne, Florida, Court of Federal Claims Number 02-2021V

615. Donna and Larry Hardin on behalf of Mikayla A. Hardin, Melbourne, Florida, Court of Federal Claims Number 02-2022V

616. James Garner on behalf of James Garner, III, Boston, Massachusetts, Court of Federal Claims Number 02-2023V

617. Despina Novie on behalf of Damien Vaughn, Boston, Massachusetts, Court of Federal Claims Number 02-2024V

618. Ayanna Taylor on behalf of Damien Vaughn, Boston, Massachusetts, Court of Federal Claims Number 02-2025V

619. Shelly Johnson on behalf of Chase Johnson, Boston, Massachusetts, Court of Federal Claims Number 02-2026V

620. Valerie Shropshire on behalf of Jessica Brown, Houston, Texas, Court of Federal Claims Number 02-2027V

621. Mirian Green on behalf of Nigel Green, Houston, Texas, Court of Federal Claims Number 02-2028V

622. Iranus Minor Robinson on behalf of Eric Minor, Houston, Texas, Court of Federal Claims Number 02-2029V

623. Tawanda Smith on behalf of Roamond Gaulden, Jr., Houston, Texas, Court of Federal Claims Number 02-2030V

624. Lauree Hutchins on behalf of Martavious Robertson, Houston, Texas, Court of Federal Claims Number 02-2031V

625. Ethel Jackson on behalf of Charterion Moore, Houston, Texas, Court of Federal Claims Number 02-2032V

626. Vallessa Clavelle on behalf of Diamond Clavelle, Houston, Texas, Court of Federal Claims Number 02-2033V

627. Viviana and Joe Saldana on behalf of Daniel Jose Saldana, Houston, Texas, Court of Federal Claims Number 02-2034V

628. Christine and Pedro Carreira on behalf of Nicholas Carreira, Houston, Texas, Court of Federal Claims Number 02-2035V

629. Deborah and Gabriel Adames on behalf of David Adames, Houston, Texas, Court of Federal Claims Number 02-2036V

630. Denise and Paul Ventiquattro on behalf of Jordan Ventiquattro, Houston, Texas, Court of Federal Claims Number 02-2037V

631. Mary and Thomas Long on behalf of Thomas Long, III, Houston, Texas, Court of Federal Claims Number 02-2038V

632. Lynn and Matthew English on behalf of Richard English, Houston, Texas, Court of Federal Claims Number 02-2039V

633. Zahira Matos-Plemons on behalf of Joshua Cullen Plemons, Dallas, Texas, Court of Federal Claims Number 02-2040V

634. Carlos D. Robertson on behalf of Carlos D. Hinton, Hattiesburg, Mississippi, Court of Federal Claims Number 02-2041V

635. Donna Meter on behalf of Jordan Meter, Cape Coral, Florida, Court of Federal Claims Number 02-2044V

636. Nancy Cannon on behalf of Michael Cannon, Cape Coral, Florida, Court of Federal Claims Number 02-2045V

637. Stephanie and Matthew Bushak on behalf of Ryan Matthew Bushak, New York, New York, Court of Federal Claims Number 02-2046V

638. Ronald Weingarten on behalf of Noah Weingarten, Boston, Massachusetts, Court of Federal Claims Number 02-2047V

639. Parbatie and John Errington on behalf of Nicholas C. Errington, Miami, Florida, Court of Federal Claims Number 02-2048V

640. Kelly and Mark Porrey on behalf of Mark Anthony Porrey, Miami, Florida, Court of Federal Claims Number 02-2049V

641. Theresa and Joseph Herbert on behalf of Joseph David Herbert, Lake Charles, Louisiana, Court of Federal Claims Number 02-2050V

642. Kellie and Ronald Miller on behalf of Avery Hope Miller, Elizabethtown, Kentucky, Court of Federal Claims Number 02-2051V

643. Claudia and Michael Popson on behalf of Jeremy Thomas Popson, Louisville, Kentucky, Court of Federal Claims Number 02-2052V

644. Lisa and A. Tom Canady on behalf of Daniel T. Canady, Baton Rouge, Louisiana, Court of Federal Claims Number 02-2053V

645. Jeannie Wakelyn-Boyce and John Boyce on behalf of Adam Grayson Boyce, Newport News, Virginia, Court of Federal Claims Number 02-2054V

646. Jeannie Wakelyn-Boyce and John Boyce on behalf of Austin Michael Boyce, Newport News, Virginia, Court of Federal Claims Number 02-2055V

647. Tonja and James Callender on behalf of James Callender, Jr., Baton Rouge, Louisiana, Court of Federal Claims Number 02-2056V

648. Caroline and Matthew Maddock on behalf of Nicholas Maddock, Haslet, Texas, Court of Federal Claims Number 02-2057V

649. John Cloar on behalf of Thomas Jake Cloar, Mayfield, Kentucky, Court of Federal Claims Number 02-2058V

650. Amy Holmes and Charles Weinstein on behalf of Michael D. Weinstein, Baton Rouge, Louisiana, Court of Federal Claims Number 02-2059V

651. Ginger and Dennis Brown on behalf of Robert Lee Brown, Columbus, Indiana, Court of Federal Claims Number 02-2060V

652. Jodie and Tommy Cockrell on behalf of Joseph Kaye Cockrell, Bossier City, Louisiana, Court of Federal Claims Number 02-2061V

653. Sandra Bryant on behalf of Laura Elizabeth Bryant, Saint Francisville, Louisiana, Court of Federal Claims Number 02-2062V

654. Rita and Robert Parry on behalf of Robert J. Parry, Houston, Texas, Court of Federal Claims Number 02-2063V

655. Kathy Jo and Phil Boriskie on behalf of Matthew Boriskie, Houston, Texas, Court of Federal Claims Number 02-2064V

656. Jaunice and A. Lamar Glaze on behalf of Johnathan Christopher Glaze, Hattiesburg, Mississippi, Court of Federal Claims Number 02-2065V

657. Jaunice and A. Lamar Glaze on behalf of Matthew Jameson Glaze, Hattiesburg, Mississippi, Court of Federal Claims Number 02-2066V

658. Jaunice and A. Lamar Glaze on behalf of Lauren Alexandra Glaze, Hattiesburg, Mississippi, Court of Federal Claims Number 02-2067V

659. Toni and Todd Marks on behalf of Tad Nelson Marks, Baton Rouge, Louisiana, Court of Federal Claims Number 02-2068V

660. Erin Holmes on behalf of Jacob Holmes, Deceased, Clark County, Nevada, Court of Federal Claims Number 02-2069V

661. Jami Nelson on behalf of River Gene White, Tyler, Texas, Court of Federal Claims Number 02-2070V

662. Kimberly Campbell on behalf of Dillon Campbell, Tyler, Texas, Court of Federal Claims Number 02-2071V

663. Michael Sammons on behalf of Cody Michael Sammons, Tyler, Texas, Court of Federal Claims Number 02-2072V

664. Suzanne Robinson on behalf of Celeste Angelie Robinson, Tyler, Texas, Court of Federal Claims Number 02-2073V

665. Chiniqua Ward-Newsome on behalf of Jalen Jaamal Newsome, Tyler, Texas, Court of Federal Claims Number 02-2074V

666. Kimberly Campbell on behalf of Corey Campbell, Tyler, Texas, Court of Federal Claims Number 02-2075V

667. Amy Blubaugh and Kelly Tanner on behalf of Dalton Tanner-Blubaugh, Cape Girardeau, Missouri, Court of Federal Claims Number 02-2076V

Dated: May 16, 2003.
Elizabeth M. Duke,
Administrator.

[FR Doc. 03-12773 Filed 5-20-03; 8:45 am]

BILLING CODE 4165-15-P